FEDERAL MARITIME COMMISSION

[Docket No. 22-26]

Philip Reinisch Company LLC, Complainant v. Flexport International LLC, Respondent; Notice of Filing of Complaint and Assignment

Served: September 29, 2022.

Notice is given that a complaint has been filed with the Federal Maritime Commission (Commission) by Philip Reinisch Company LLC., hereinafter “Complainant,” against Flexport International LLC., hereinafter “Respondent.” Complainant states that it is a company registered in Indiana. Complainant identifies the Respondent as a non-vessel-operating common carrier registered in Delaware with its principal office located in San Francisco, California.

Complainant alleges that Respondent violated 46 U.S.C. 41104(a)(15) and 41104(d) regarding the issuance of invoices without required information and the assessment of detention and demurrage charges. The full text of the complaint can be found in the Commission's Electronic Reading Room at https://www2.fmc.gov/readingroom/proceeding/22-26/.

This proceeding has been assigned to Office of Administrative Law Judges. The initial decision of the presiding officer in this proceeding shall be issued by September 29, 2023, and the final decision of the Commission shall be issued by April 12, 2024.

William Cody,
Secretary.

[FR Doc. 2022-21562 Filed 10-4-22; 8:45 am]

BILLING CODE 6730-02-P